DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Substantive Submissions Made During Prosecution of the Trademark Application.

Form Number(s): PTO Form 1553, 1581, 2000, 2194, 2195, 2200, 2202.

Agency Approval Number: 0651-00xx.

Type of Request: New collection.

Burden: 29,174 hours.

Number of Respondents: 183,710 responses.

Avg. Hours Per Response: 3 to 20 minutes. This includes time to gather the necessary information, create the documents, and mail the completed request. The time estimates shown for the electronic forms in this collection are based on the average amount of time needed to complete and electronically file the associated form.

Needs and Uses: The information in this collection is a matter of public record and is used by the public for a variety of private business purposes related to establishing and enforcing trademark rights. At this time, the USPTO is proposing to split collection 0651-0009, Trademark Processing, into four separate collections based upon the structure of the Trademark business processes. The USPTO believes that dividing this extensive collection into smaller, more manageable, information collection requests will result in a more efficient updating and renewal process. This new collection is one of the newly created, or “split” groups.

The USPTO is proposing to add two paper submissions into this collection, namely “Request to Delete Section 1(b) Basis, Intent to Use” and “Request for Express Abandonment (Withdrawal) of Application.” The electronic versions of these submissions were additions to collection 0651-0009, which was recently approved by OMB on December 2, 2004.

The USPTO is also proposing to add a new category into this collection, “Other Petitions.” “Other Petitions” includes all petitions other than “Petitions to Revive.” “Other Petitions” cannot be submitted electronically.

The remaining 12 items in this collection were part of the existing approved 0651-0009 collection.

Affected Public: Individuals or households; business or other for-profit; not-for-profit institutions; farms, the Federal Government, and State, local or Tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0031 copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before September 1, 2005 to David Rostker, OMB Desk Officer, Room 10202, New Executive Office Building, 725 17th Street, NW., Washington, DC 20503.

Dated: July 25, 2005.
Susan K. Brown,
Records Officer, USPTO, Office of Data Architecture and Services, Data Administration Division.

[FR Doc. 05-15195 Filed 8-1-05; 8:45 am]

BILLING CODE 3510-16-P